DEPARTMENT OF ENERGY

Federal Energy Regulatory Commission

[Docket No. ER07-488-000]

Southern California Edison Company; Notice Extending Comment Period

February 23, 2007.

On February 20, 2007, the Commission issued a “Notice of Filing” in the above-captioned proceeding. Combined Notice of Filings #2, February 20, 2007. By this notice the comment period has been extended to and including March 5, 2007.

Magalie R. Salas,
Secretary.

[FR Doc. E7-3594 Filed 2-28-07; 8:45 am]

BILLING CODE 6717-01-P